DEPARTMENT OF LABOR

Employment and Training Administration

Investigations Regarding Certifications of Eligibility To Apply for Worker Adjustment Assistance

Petitions have been filed with the Secretary of Labor under section 221(a) of the trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 10, 2001.

Interested persons are invited to submit written comments regarding the subject matter of the investigations to the Director, Division of Trade Adjustment Assistance, at the address shown below, not later than December 10, 2001.

The petitions filed in this case are available for inspection at the Office of the Director, Division of Trade Adjustment Assistance, Employment and Training Administration, U.S. Department of Labor, Room C-5311, 200 Constitution Avenue, NW., Washington, DC 20210.

Signed at Washington, DC, this 13th day of November, 2001.
Edward A. Tomchick,
Director, Division of Trade Adjustment Assistance.

Appendix
[Petitions institued on 11/13/2001]
TA-W | Subject firm (petitioners) | Location | Date of petition | Product(s)
40,337 | General Electric Quartz (Wrks) | Newark, OH | 11/02/2001 | Quartz Tubing.
40,338 | K2 Corp. (Co.) | Vashon, WA | 11/02/2001 | Down Hill Snow Skis.
40,339 | Corwall Wood Products (Co.) | South Paris, ME | 10/31/2001 | Wooden Housewares.
40,340 | Linnton Plywood Assoc. (Co.) | Portland, OR | 10/29/2001 | Plywood.
40,341 | Meadowcraft, Inc. (Co.) | Somerton, AZ | 11/01/2001 | Wrought Iron Patio Furniture.
40,342 | Stinson Seafood (Wrks) | Belfast, ME | 10/23/2001 | Sardines Processed.
40,343 | Specialty Minerals, Inc. (Co.) | Plainwell, MI | 11/01/2001 | Minerals.
40,344 | Bradford Electronics (Co.) | Bradford, PA | 11/02/2001 | Glass Film Resistors.
40,345 | Bombardier Transportation (Co.) | Pittsburgh, PA | 10/29/2001 | Propulsion Equipment.
40,346 | Trophy Holdings, Inc. (Co.) | Knox, IN | 11/01/2001 | Award and Recognition Components.
40,347 | Phelphs Dodge, Miami, Inc. (Co.) | Claypool, AZ | 11/02/2001 | Copper Cathode.
40,348 | Willamette Industries (Co.) | Winston, OR | 11/02/2001 | Laminated Veneer Lumber.
40,349 | Willamette Industries (Co.) | Saginaw, OR | 11/02/2001 | Small Logs.
40,350 | SIG Combibloc, Inc (Wrks) | Columbus, OH | 11/06/2001 | Aseptic Food Packages, Drink Boxes.
40,351 | Libro Shirt Corp. (Co.) | Lykens, PA | 11/01/2001 | Uniform Shirts.
40,352 | Barker Microfarads, Inc (Wrks) | Hillsville, VA | 10/26/2001 | Capacitors.
40,353 | Dynamic Details (Co.) | Garland, TX | 10/25/2001 | Printed Wiring Boards.
40,354 | International Paper (Co.) | Erie, PA | 11/02/2001 | Hardwood Pulp.
40,355 | R.L. Stowe Mills, Inc. (Co.) | Belmont, NC | 10/29/2001 | Textile Yarn.

[FR Doc. 01-29754 Filed 11-29-01; 8:45 am]

BILLING CODE 4510-30-M